DEPARTMENT OF ENERGY

Federal Energy Regulatory Commission

[Docket No. EL21-53-000]

Wheat Belt Public Power District, La Plata Electric Association, Inc., Northwest Rural Public Power District, San Isabel Electric Association, Inc., San Miguel Power Association, Springer Electric Cooperative, Inc., United Power, Inc. v. Tri-State Generation and Transmission Association, Inc.; Notice of Complaint

Take notice that on February 26, 2021, pursuant to sections 206, 306, and 309 of the Federal Power Act, 16 U.S.C. 824e, 825e, 825h and Rule 206 of the Federal Energy Regulatory Commission's (Commission) Rules of Practice and Procedure, 18 CFR 385.206, Wheat Belt Public Power District, La Plata Electric Association, Inc., Northwest Rural Public Power District, San Isabel Electric Association, Inc., San Miguel Power Association, Springer Electric Cooperative, Inc., and United Power, Inc. (collectively, Joint Complainants) filed a formal complaint against Tri-State Generation and Transmission Association, Inc. (Respondent), requesting the Commission to: (1) Require Respondent to immediately calculate contract termination payments for the Joint Complainants under Rate Schedule No. 281; (2) initiate a section 206 investigation into the Contract Termination Payment Methodology that is pending in Docket No. ER20-1559; and (3) consolidate the section 206 investigation with Docket No. ER20-1559, all as more fully explained in the complaint.

The Joint Complainants certify that copies of the complaint were served on the contacts listed for Respondent in the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov, or call toll-free, (886) 208-3676 or TYY, (202) 502-8659.

Comment Date: 5:00 p.m. Eastern Time on March 18, 2020.

Dated: March 1, 2021.
Kimberly D. Bose,
Secretary.

[FR Doc. 2021-04588 Filed 3-4-21; 8:45 am]

BILLING CODE 6717-01-P